ENVIRONMENTAL PROTECTION AGENCY

[FRL-9982-69-OW]

Clean Water Act; Contractor Access to Confidential Business Information

AGENCY: Environmental Protection Agency (EPA).

ACTION: Notice of intended transfer of confidential business information to contractor and its subcontractors and consultants.

SUMMARY: The Environmental Protection Agency (EPA) intends to transfer confidential business information (CBI), collected from numerous industries, to ICF International (ICF) and its subcontractors and consultants, under an EPA contract newly awarded to ICF. Transfer of this information is necessary for ICF to assist the Office of Water in the preparation of economic analyses and environmental assessment activities conducted in support of Clean Water Act regulations and programs, such as effluent guidelines and associated planning and review activities, and water quality standards. Much of the information being transferred was or will be collected under the authority of section 308 of the Clean Water Act (CWA) to support effluent guidelines development in particular. Interested persons may submit comments on this intended transfer of information to the address noted below.

DATES: Comments on the transfer of data are due August 27, 2018.

ADDRESSES: Comments may be sent to M. Ahmar Siddiqui, Document Control Officer, Engineering and Analysis Division (4303T), U.S. EPA, 1200 Pennsylvania Ave. NW, Washington, DC 20460.

FOR FURTHER INFORMATION CONTACT: M. Ahmar Siddiqui, Document Control Officer, at (202) 566-1044, or via email at siddiqui.ahmar@epa.gov.

SUPPLEMENTARY INFORMATION: EPA has transferred CBI to its contractors and subcontractors as part of the effluent guidelines program under 40 CFR 2.302(h). EPA determined that this transfer was necessary to enable the contractors, subcontractors, and consultants to perform their work in supporting EPA in planning, developing, and reviewing effluent guidelines and standards for certain industries.

Pursuant to 40 CFR 2.302(h)(2), EPA is giving notice that it has entered into a new contract with ICF, contract number 68HE0C18D0001, located in Fairfax, Virginia. The purpose of this contract is to secure economic and environmental assessment support for EPA in its development, review, implementation, and defense of water-related initiatives for a variety of industries or states. To obtain assistance in responding to this contract, ICF has entered into contracts with the following subcontractors and consultants: The Cadmus Group, LLC (located in Waltham, Massachusetts), CognistX (located in Pittsburgh, Pennsylvania), Great Lakes Environmental Center, Inc. (located in Traverse City, Michigan), Horizon Systems Corporation (located in White Stone, Virginia), Innovate! Inc. (located in Alexandria, Virginia), LimnoTech Inc. (located in Ann Arbor, Michigan), Resources for the Future (located in Washington, DC), RTI International (located in Research Triangle Park, North Carolina), Wayne Gray (located in Worcester, Massachusetts), Robert Johnston (located in Millville, Massachusetts), Klaus Moeltner (located in Blacksburg, Virginia), Kerry Smith (located in Cave Creek, Arizona), and Raghavan Srinivasan (located in College Station, Texas).

All EPA contractor, subcontractor, and consultant personnel are bound by the requirements and sanctions contained in their contracts with EPA and in EPA's CBI regulations found at 40 CFR part 2, subpart B. ICF will adhere to an EPA-approved security plan which describes procedures to protect CBI. ICF will apply the procedures in this plan to CBI previously gathered by EPA and to CBI that may be gathered in the future. The security plan specifies that contractor personnel are required to sign non-disclosure agreements and are briefed on appropriate security procedures before they are permitted access to CBI. No person is automatically granted access to CBI: A need to know must exist.

The information that will be transferred to ICF consists of information previously collected by EPA to support the development and review of effluent limitations guidelines and standards under the CWA. In particular, information, including CBI, collected for the planning, development, and review of effluent limitations guidelines and standards for the following industries may be transferred to ICF under the new contract: Airport deicing; aquaculture; centralized waste treatment; coal bed methane; concentrated animal feeding operations; coal mining; construction and development; drinking water treatment; industrial container and drum cleaning; industrial laundries; industrial waste combustors; iron and steel manufacturing; landfills; meat and poultry products; metal finishing; metal products and machinery; nonferrous metals manufacturing; oil and gas extraction (including coalbed methane); ore mining and dressing; organic chemicals, plastics, and synthetic fibers; pesticide chemicals; petroleum refining; pharmaceutical manufacturing; pulp, paper, and paperboard manufacturing; shale gas extraction; steam electric power generation; textile mills; timber products processing; tobacco; transportation equipment cleaning; and other industrial categories that EPA has reviewed as part of its CWA required annual review activities.

EPA also intends to transfer to ICF all information listed in this notice, of the type described above (including CBI) that may be collected in the future under the authority of section 308 of the CWA or voluntarily submitted (e.g., in comments in response to a Federal Register notice), as is necessary to enable ICF to carry out the work required by its contract to support EPA's effluent guidelines planning and review process and the development of effluent limitations guidelines and standards.

Dated: August 10, 2018.
Deborah G. Nagle,
Acting Director, Office of Science and Technology, Office of Water.

[FR Doc. 2018-18116 Filed 8-21-18; 8:45 am]

BILLING CODE 6560-50-P